DEPARTMENT OF AGRICULTURE

Forest Service

Revision of Land Management Plan for the Uwharrie National Forest

AGENCY: Forest Service, USDA.

ACTION: Notice of Intent To Revise the Land and Resource Management Plan and Prepare an Environmental Impact Statement.

SUMMARY: As directed by the National Forest Management Act, the USDA Forest Service is preparing the Uwharrie National Forest's revised land management plan (forest plan) and will also prepare an Environmental Impact Statement (EIS) for this revised forest plan. This notice briefly describes the nature of the decision to be made, the need for change and proposed action, and information concerning public participation. It also provides estimated dates for filing the ElS and the name and address of the responsible agency official and the individuals who can provide additional information. Finally, this notice briefly describes the applicable planning rule and how plan revision work completed under the 2008 planning rule will be used or modified for completing this plan revision. The revised forest plan will supersede the current forest plan that was approved by the Regional Forester in May 1986. The current forest plan will remain in effect until the revised forest plan takes effect.

DATES: Comments concerning the need for change and proposed action provided in this notice will be most useful in the development of the draft revised forest plan and EIS if received by May 7, 2010. The agency expects to release a draft revised forest plan and draft EIS for formal comment by October, 2010 and a final revised forest plan and final EIS by September, 2011.

ADDRESSES: Comments may be sent via e-mail: comments-southern-north carolina@/fs.fed.us, or via facsimile to 828-257-4263. Send or deliver written comments to: National Forests in North Carolina, Attention: Uwharrie Plan Revision Team, 160A Zillicoa Street, Asheville, NC 28801.

FOR FURTHER INFORMATION CONTACT: Ruth Berner, Forest Planner, National Forests in North Carolina, 160A Zillicoa Street, Asheville, NC, (828) 257-4862. Information regarding this revision is also available at the National Forests in North Carolina Web site: http://www.cs.unca.edu/nfsnc/uwliarrie_plan/index.htm. Individuals who use telecommunication devices for the deaf (TDD) may call the Federal Information Relay Service (FIRS) at 1-800-877-8339 between 8 a.m. and 8 p.m., Eastern Time Monday through Friday.

SUPPLEMENTARY INFORMATION:

A. Name and Address of the Responsible Official

The responsible official who will approve the Record of Decision is Elizabeth Agpaoa, Regional Forester, 1720 Peachtree Road NW., Atlanta, Georgia, 30309.

B. Nature of the Decision To Be Made

The Uwharrie National Forest is preparing an EIS to revise the current forest plan. The EIS process is meant to inform the Regional Forester so that she can decide which alternative best meets the diverse needs of people while protecting the forest's resources, as required by the National Forest Management Act and the Multiple Use Sustained Yield Act. The revised forest plan will describe the strategic intent of managing the Uwharrie National Forest into the next 10 to 15 years and will address the need for change described below. The revised forest plan will provide management direction in the form of goals (desired conditions), objectives, suitability determinations, standards, guidelines, and a monitoring plan. It may also make new special interest area designations and recommendations.

It is also important to identify the types of decisions that will not be made within the revised forest plan. The authorization of project-level activities on the forests is not a decision made in the forest plan but occurs through subsequent project specific decision making. The designation routes and trails for motorized vehicle travel, equestrian and mountain bike use are not considered during plan revision, but will be addressed through subsequent planning processes. Some issues (e.g., hunting regulations), although important, are beyond the authority or control of the Uwharrie National Forest and will not be considered.

C. Need for Change and Proposed Action

According to the National Forest Management Act, forest plans are to be revised on a 10 to 15 year cycle. The purpose and need for revising the current forest plan are (1) the forest plan is over 20 years old, and (2) since the forest plan was approved in 1986, there have been changes in economic, social, and ecological conditions, new policies and priorities, and new information based on monitoring and scientific research. Extensive public and employee collaboration, along with science-based evaluations, identified the need for change in the current forest plan. This need for change has been organized into three revision themes that focus on the sustainability of ecological, social, and economic systems: (1) Restoring the forest to a more natural ecological condition, (2) better managing heritage resources, and (3) providing outstanding and environmentally friendly outdoor recreation opportunities, with excellent trails and facilities. The need for change is described fully in the Draft Analysis of the Management Situation document, which is available on the forests' Web site: http://www.cs.unca.edu/nfsnc/uwharrie_plan/index.htm.

The Proposed Action is to revise the current forest plan to address the following three revision themes:

Revision Theme 1—Restoring Tile Forest to a More Natural Ecological Condition

Restoring Native Ecosystems

Existing Forest ecosystems include native pine and hardwood communities, but also include loblolly pine communities on sites that once supported longleaf pine and oak hickory forests. The 1986 Plan emphasized timber production and one result was additional loblolly planting. By refocusing the emphasis onto restoration of native ecosystems, the proposed action includes re-introduction of longleaf pine and oak hickory forests on appropriate sites.

Woodlands and open, prairie like conditions also existed in the Uwharrie area in the past and supported a variety of sun-loving species that are now rare in the current more closed-canopy conditions. The Endangered Schweinitz's sunflower is one such species. The proposed action includes creating more open woodland conditions to support these rare species, thus better contributing to native biological diversity.

Using Fire as a Tool

Restoring natural fire regimes is important in sustaining some native ecosystems such as longleaf pine and the open woodland conditions utilized by other rare plants. The proposed action increases the use of prescribed fire for better maintenance of these native plant communities.

Controlling Non-Native Invasive Plants

The 1986 Plan did not emphasize controlling non-native invasive plant species. The proposed action sets objectives for addressing this issue.

Consistent Acorn Production

There is a relatively limited supply of oaks in the age range when acorns are most abundantly produced. The proposed action includes periodic vegetation management to maintain a more consistent amount of oaks with prime acorn production capabilities.

Selective Stream Restoration

Opportunities exist to improve stream channel stability and aquatic habitat. The proposed action emphasizes proactive restoration of streams and aquatic habitats.

Revision Theme 2—Better Managing Heritage Resources

Studying History

There are more than 1,600 recorded heritage resources on the Uwharrie. These resources include artifacts and archeological sites that document human use of the area for more than 14,000 years. The Forest was home for people who extracted its resources and the Forest holds abundant evidence of their activities and habitations. Their effects on the landscape and the environment's effects on the people can only be understood with further study of these resources.

Protecting History

Unauthorized disturbance and collection of artifacts is prohibited under the Archeological Resources Protection Act of 1979, which protects all artifacts and sites over 100 years of age located on Federal lands. The proposed action includes direction to mitigate impacts to high priority sites.

Interpreting History

Opportunities abound for historic interpretation (Thomburg property, Crump Farm, Arrowhead Trail, goldmines) and for scientific research (prehistoric quarries and bogs/upland swamps). Bogs and upland swamps are likely to contain well-preserved data to interpret past environments. The proposed action includes direction to create additional opportunities for heritage resource interpretation.

Revision Theme 3—Providing Outstanding and Environmentally Friendly Outdoor Recreation Opportunities, With Excellent Trails and Facilities

Growth as a Tourist Destination

The Uwharrie is the top tourist destination in Montgomery County, and one of several popular tourist destinations in Randolph County. There may be tourism related opportunities to provide more economic benefits to local communities. The proposed action includes direction to provide well-maintained tourism-related infrastructure that would continue to attract visitors.

Nature Hikes and Day Use More Popular

Many visitors to the Uwharrie seek a place to walk, view nature, and perhaps picnic, swim, or fish. The Forest, with its lake and river frontage, rolling topography, and facilities, is currently providing a variety of these desired opportunities. These opportunities can help support the health and well-being of the populations of forest visitors. The proposed action emphasizes the Uwharrie National Recreation Trail, Badin Lake Recreation Area, the many trail systems, and the Uwharrie River.

Forest Roads and Trails in Need of Improvement

There may be opportunities to improve the existing Forest road and trail system, to enhance public access while minimizing visitor conflicts and resource damage. The proposed action focuses considerable attention on the trail systems, and includes a desire for moving equestrian and mountain bike use to a designated trail system. OHVs are already limited to a designated system.

Providing Visitor Information

The proposed action places more emphasis on visitor information that could increase visitor enjoyment and be a useful tool in controlling visitor impacts.

D. Public Involvement on the Proposed Action

Extensive public involvement and collaboration on revising the Uwharrie's Forest Plan has already occurred. Discussions with the public regarding needed changes to the current forest plan began with a series of public meetings in 2005 and 2006. This input, along with science-based evaluations, was used to determine a need for change and a proposed plan. Correspondence, news releases, comment periods, and other tools were used to gather feedback from the public, forest employees, tribal governments, federal and state agencies, and local governments. A Proposed Land Management Plan for the Uwharrie National Forest was issued for a 90-day public comment period beginning February 15, 2007. Before the end of that comment period, the 2005 Forest Service planning rule was enjoined by federal court. Preparation of the revised plan was halted at that time. A new planning rule was implemented on April 21, 2008 allowing the planning process to be resumed. A second Proposed Land Management Plan for the Uwharrie National Forest was then issued for a 90-day comment period on February 23, 2009, following the direction of the 2008 Planning Rule. The 2008 planning rule was also enjoined by a federal court. The planning process for revising the Uwharrie's Forest Plan is now moving forward using the requirements of the 1982 planning rule (see the discussion below for more information on the sequence of events and the determination that the Uwharrie National Forest can continue the planning process using the provisions of the 1982 planning rule). The Forest Service is now soliciting comments on a new proposal to revise the Uwharrie National Forest Land and Resource Management Plan. This proposal reflects the work that has previously been accomplished and adjusted to meet the requirements of the 1982 rule. A copy of the proposal can be found on the Web site described at the end of this notice.

E. Issues and Preliminary Alternatives

Information gathered during this comment period, as well as other feedback, will be used to prepare the draft EIS. At this time, the Uwharrie National Forest is seeking input on the proposed action. From these comments the Forest Service will identify issues that will serve as a focus for developing alternatives to be analyzed in the EIS.

F. Scoping Process

Comments on the need for change, issues, proposed action, and preliminary alternatives will be most valuable if received by May 7, 2010 and should clearly articulate the reviewer's concerns. Comments received in response to this solicitation, including the names and addresses of those who comment, will be part of the public record. The submission of timely and specific comments can affect a reviewer's ability to participate in any subsequent administrative or judicial review. At this time, we anticipate using a pre-decisional objection process for administrative review. Comments submitted anonymously will be accepted and considered.

G. Applicable Planning Rule

Preparation of the revised forest plan for the Uwharrie National Forest originally began with the publication of a Notice of Initiation in the Federal Register on November 18, 2005 [70 FR 69931] and was initiated under the planning procedures contained in the 2005 Forest Service planning rule (36 CFR 219 (2005)). On March 30, 2007, the United States District Court for the Northern District of California enjoined the Forest Service from implementing the 2005 planning rule and the revision of the Uwharrie's Forest Plan under the 2005 rule was suspended in response to that injunction. On April 21, 2008, the Forest Service adopted a new planning rule that allowed resumption of the revision process if it conformed to the new planning rule (36 CFR 219.14(b)(3)(ii) (2008)). On February 25, 2009, a Notice of Adjustment for Resuming the land management revision process and Notice of Commencement of a 90-day comment period for the Uwharrie National Forest Proposed Land Management Plan was published in the Federal Register [74 FR 8500]. Then on June 30, 2009, the 2008 planning rule was enjoined by the United States District Court for the Northern District of California (Citizens for Better Forestry v. United States Department of Agriculture, No. C 08-1927 CW (N.D. Cal. June 30, 2009)) and the revision of the Uwharrie's Forest Plan was again suspended. The Department of Agriculture has determined that the 2000 planning rule is now back in effect. The 2000 planning rule's transition provisions (36 CFR 219.35), amended in 2002 and 2003, clarified by interpretative rules issued in 2001 and 2004, and reissued on December 18, 2009 [74 FR 67059-67075], allow use of the provisions of the planning rule in effect prior to the effective date of the 2000 Rule (November 9, 2000), commonly called the 1982 planning rule, to amend or revise forest plans. The Uwharrie National Forest has elected to use the provisions of the 1982 planning rule, including the requirement to prepare an ElS, to complete its forest plan revision.

H. Other Prior Plan Revision Efforts

Although the 2008 planning rule is no longer in effect, the information gathered from public collaboration efforts and most of the analysis conducted prior to the court's injunction in June 2009 is still useful for completing the plan revision using the provisions of the 1982 planning regulations.

○ Under the 2005 and 2008 planning rules, a Comprehensive Evaluation Report (CER) was completed that formed the basis for the need to change and the proposed plan that was available for public comment in 2007 and 2009. This analysis has been updated with additional information to meet the requirements of the Analysis of Management Situation (AMS) provisions of the 1982 planning rule. The information from this Draft Analysis of the Management Situation report was then used to update the proposed action. As the planning process continues, comments received during the scoping process, plus any new information or areas identified as needing to be changed, will be used to supplement the AMS documents. Other AMS requirements will also continue to be worked on as the planning process proceeds.

○ Information on the life history, threats, habitat needs and population trends of a number of terrestrial and aquatic species contained in the forest planning records for ecosystem and species diversity assessments will continue to be used as a reference in the planning process as appropriate to meet the requirements of the 1982 planning rule. This is scientific information and is not affected by the change of the planning rule. This information will be updated with any new available information.

○ Public comments previously submitted in writing, or recorded at past public meetings, related to the revision of the Uwharrie's Forest Plan since 2005 will be used to help identify issues and concerns and to help develop alternatives to address these issues and concerns.

I. Documents Available for Review

The proposed action, background reports, assessments, datasets, and public comments are posted on the Forest's Web site at: http://www.cs.unca.edu/nfsnc/uwharrie_plan/index.htm. As necessary or appropriate, this material will be further adjusted as part of the planning process using the provisions of the 1982 planning rule.

(Authority: 16 U.S.C. 1600-1614; 36 CFR 219.35 [74 FR 67073-67074]).

Dated March 3, 2010.
Marisue Hilliard,
Forest Supervisor.

[FR Doc. 2010-5101 Filed 3-10-10; 8:45 am]

BILLING CODE 3410-ES-M